DEPARTMENT OF ENERGY

Federal Energy Regulatory Commission

Notice of Application and Applicant-Prepared EA Accepted for Filing, Soliciting Motions To Intervene and Protests, and Soliciting Comments, and Final Recommendations, Terms and Conditions, and Prescriptions

September 12, 2005.

Take notice that the following hydroelectric application and applicant-prepared environmental assessment has been filed with the Commission and is available for public inspection.

a. Type of Application: New—Major License.

b. Project No.: 2100-52.

c. Date Filed: January 26, 2005.

d. Applicant: California Department of Water Resources.

e. Name of Project: Oroville Facilities.

f. Location: On the Feather River near Oroville, California. The project affects federal lands.

g. Filed Pursuant to: Federal Power Act 16 U.S.C. 791(a)-825(r).

h. Applicant Contact: Henry M. “Rick” Ramirez, Program Manager, Oroville Facilities Relicensing Program, California Department of Water Resources, 1416 9th Street, Sacramento, California 95814 Phone: 916-657-4963. E-mail: ramirez@water.ca.gov.

i. FERC Contact: James Fargo at (202) 502-6211, or james.fargo@ferc.gov.

j. Deadline for filing motions to intervene and protests, comments, and final recommendations, terms and conditions, and prescriptions is January 30, 2006; reply comments are due March 16, 2006.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests, comments, recommendations, terms and conditions, and prescriptions may be filed electronically via the Internet in lieu of paper. The Commission strongly encourages electronic filings. See 18 CFR 385.2001(a)(1)(iii) and the instructions on the Commission's Web site (http://www.ferc.gov) under the “e-Filing” link

k. This application has been accepted for filing.

l. Description of Project: The Oroville Facilities are located on the Feather River in the foothills of the Sierra Nevada in Butte County, California. Oroville Dam is located 5 miles east of the City of Oroville and about 130 miles northeast of San Francisco. The Oroville Facilities are part of the State Water Project (SWP), a water storage and delivery system of reservoirs, aqueducts, power plants, and pumping plants. One of the two main purposes of the SWP is to store and distribute water to supplement the needs of urban and agricultural water users in Northern California, the San Francisco Bay Area, the San Joaquin Valley Central Coast, and Southern California. The Oroville Facilities are also operated for flood management, power generation, water quality improvement in the Sacramento-San Joaquin Delta (Delta), recreation, and fish and wildlife enhancement.

Oroville, three power plants (Hyatt Pumping-Generating Plant, Thermalito Diversion Dam Powerplant, and Thermalito Pumping-Generating Plant), Thermalito Diversion Dam, the Feather River Fish Hatchery and Fish Barrier Dam, Thermalito Power Canal, the Oroville Wildlife Area, Thermalito Forebay, Thermalito Forebay Dam, Thermalito Afterbay, Thermalito Afterbay Dam, and the existing facilities encompass 41,100 acres and include Oroville Dam, Lake transmission lines, as well as a number of recreational facilities. Oroville Dam, along with two small saddle dams, impounds Lake Oroville, a 3.5 million acre-foot capacity storage reservoir with a surface area of 15,810 acres at its normal maximum operating level. The hydroelectric units at the Oroville Facilities have a combined licensed generating capacity of approximately 762 MW

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

n. Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via e-mail of new filings and issuances related to this or other pending projects. For assistance, contact FERC Online Support.

Magalie R. Salas,
Secretary.

[FR Doc. E5-5096 Filed 9-16-05; 8:45 am]

BILLING CODE 6717-01-P